DEPARTMENT OF ENERGY

Federal Energy Regulatory Commission

[Project No. 8369-049]

Village of Saranac Lake; Notice of Intent To File License Application, Filing of Pre-Application Document, and Approving Use of the Traditional Licensing Process

a. Type of Application: Notice of Intent to File License Application and Request to Use the Traditional Licensing Process (TLP).

b. Project No.: 8369-049.

c. Date filed: March 31, 2022.

d. Submitted by: Village of Saranac Lake.

e. Name of Project: Lake Flower Dam Hydroelectric Project.

f. Location: Located on the Saranac River in the counties of Franklin and Essex, New York. The project does not occupy any federal land.

g. Filed Pursuant to: 18 CFR 5.3 of the Commission's regulations.

h. Potential Applicant Contact: Mr. Erik Stender, Village Manager, Village of Saranac Lake, 39 Main Street, Saranac Lake, NY 12983, Phone: (518) 891-4150, Email: manager@saranaclakeny.gov.

i. FERC Contact: Claire Rozdilski, Phone: (202) 502-8259, Email: claire.rozdilski@ferc.gov.

j. The Village of Saranac Lake filed its request to use the TLP on March 31, 2022, and provided public notice of its request on April 1, 2022.¹ In a letter dated May 11, 2022, the Director of the Division of Hydropower Licensing approved the Village of Saranac Lake's request to use the TLP.

¹ The Village of Saranac Lake provided public notice of its request to use the TLP on April 1, 2022, one day later than required under section 5.3 of the Commission's regulations. The notice stated comments would be due 30 days from the March 31, 2022 NOI filing date, which is April 30, 2022. The Commission's Rules of Practice and Procedure provide that if a filing deadline falls on a Saturday, Sunday, holiday, or other day when the Commission is closed for business, the filing deadline does not end until the close of business on the next business day. 18 CFR 385.2007(a)(2)(2021). Because the deadline to file comments on the request to use the TLP fell on a Saturday, the filing deadline was extended until the close of business on Monday, May 2, 2022, which allowed for a full 30-day comment period from the date of the public notice.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating the Village of Saranac Lake as the Commission's non-federal representative for carrying out informal consultation pursuant to section 7 of the Endangered Species Act and consultation pursuant to section 106 of the National Historic Preservation Act.

m. The Village of Saranac Lake filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

o. The applicant states its unequivocal intent to submit an application for a subsequent license for Project No. 8369. Pursuant to 18 CFR 16.20 each application for a subsequent license and any competing license applications must be filed with the Commission at least 24 months prior to the expiration of the existing license. All applications for license for this project must be filed by September 30, 2025.

p. Register online at http://www.ferc.gov/docs-filing/esubscription.asp to be notified via email of new filing and issuances related to this or other pending projects. For assistance, contact FERC Online Support.

Dated: May 11, 2022.
Kimberly D. Bose,
Secretary.

[FR Doc. 2022-10608 Filed 5-17-22; 8:45 am]

BILLING CODE 6717-01-P